DEPARTMENT OF COMMERCE

Foreign-Trade Zones Board

[B-41-2014]

Foreign-Trade Zone (FTZ) 244—Riverside County, California, Notification of Proposed Production Activity, ModusLink Global Solutions, (Camera and Accessories Kitting), Riverside, California

The March Joint Powers Authority, grantee of FTZ 244, submitted a notification of proposed production activity to the FTZ Board on behalf of ModusLink Global Solutions (ModusLink) located in Riverside, California. The notification conforming to the requirements of the regulations of the FTZ Board (15 CFR 400.22) was received on May 21, 2014.

The ModusLink facility is located within Site 5 of FTZ 244. The facility is used for the kitting of cameras and accessories into retail packages on behalf of GoPro, Inc. Pursuant to 15 CFR 400.14(b), FTZ activity would be limited to the specific foreign-status materials and components and specific finished products described in the submitted notification (as described below) and subsequently authorized by the FTZ Board.

Production under FTZ procedures could exempt ModusLink from customs duty payments on the foreign status components used in export production. On its domestic sales, ModusLink would be able to choose the duty rates during customs entry procedures that apply to protective lens covers, camera bundles, and lens replacement kits (duty rates range from 2.0 to 5.3%) for the foreign status inputs noted below. Customs duties also could possibly be deferred or reduced on foreign status production equipment.

The components and materials sourced from abroad include: 1 inch diameter clear plastic adhesive; double adhesive foam cushions; display boxes; plastic bags; plastic water housing assemblies; rubber seals for water housing door; molded plastic replacement camera housings; accessory boxes; tray tops for packaging; accessory boxes with shelf; warranty cards; printed carnets; security tethers; washers; Wi-Fi remotes (including with key ring); metal mounting adapters (micro SD to USB 2.0); battery transmitters; rechargeable batteries; Wi-Fi transmitters; remotes; cameras; LCD transmitters; cables (composite, 120 pin mini USB to CVBS audio/video and micro HDMI to HDMI); silicon dioxide for anti-fog inserts; flat and curved adhesive mounts; rubber floats for cameras; textile bag packs; stickers/labels; textile chest mount harnesses; Wi-Fi remote key ring attachments; thumbscrew wrench/bottle openers; rechargeable batteries; Wi-Fi transmitters-English/French; video players; micro SD memory cards; radar transmitters; composite cable bundles; microphone stand mounts; lens filters; 3D glasses; and 24 inch metal camera bars (duty rates range from duty-free to 20%). The request indicates that inputs included in certain textile categories (classified within HTSUS Subheadings 4202.92 and 6307.90) will be admitted to the zone in privileged foreign status (19 CFR 146.41), thereby precluding inverted tariff benefits on such items.

Public comment is invited from interested parties. Submissions shall be addressed to the FTZ Board's Executive Secretary at the address below. The closing period for their receipt is July 15, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Diane.Finver@trade.gov or (202) 482-1367.

Dated: May 30, 2014.
Andrew McGilvray,
Executive Secretary.

[FR Doc. 2014-13086 Filed 6-4-14; 8:45 am]

BILLING CODE 3510-DS-P